DEPARTMENT OF ENERGY

Federal Energy Regulatory Commission

Combined Notice of Filings #2

Take notice that the Commission received the following electric rate filings:

Docket Numbers: ER11-4303-001.

Applicants: New York Independent System Operator, Inc.

Description: New York Independent System Operator, Inc. submits tariff filing per 35.17(b): NYISO Errata to 8/12/11 Voltage Support Service Filing to be effective 10/11/2011.

Filed Date: 09/13/2011.

Accession Number: 20110913-5041.

Comment Date: 5 p.m. Eastern Time on Friday, September 23, 2011.

Docket Numbers: ER11-4508-000.

Applicants: Centre Lane Trading Ltd.

Description: Centre Lane Trading Ltd. submits tariff filing per 35.1: Baseline Tariff to be effective 9/8/2011.

Filed Date: 09/13/2011.

Accession Number: 20110913-5040.

Comment Date: 5 p.m. Eastern Time on Tuesday, October 04, 2011.

Docket Numbers: ER11-4509-000.

Applicants: One Nation Energy Solutions, LLC.

Description: One Nation Energy Solutions, LLC submits tariff filing per 35.1: Market Based Rate Re-File to be effective 9/13/2011.

Filed Date: 09/13/2011.

Accession Number: 20110913-5074.

Comment Date: 5 p.m. Eastern Time on Tuesday, October 04, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2011.
Nathaniel J. Davis, Sr.,
Deputy Secretary.

[FR Doc. 2011-24054 Filed 9-19-11; 8:45 am]

BILLING CODE 6717-01-P